ENVIRONMENTAL PROTECTION AGENCY

[EPA-HQ-OAR-2013-0402; FRL-9826-8]

Proposed Information Collection Request; Comment Request; EPA-ICR No. 1774.05—Mobile Air Conditioner Retrofitting Program

AGENCY: Environmental Protection Agency (EPA).

ACTION: Notice.

SUMMARY: The Environmental Protection Agency is planning to submit an information collection request (ICR), “Mobile Air Conditioner Retrofitting Program” (EPA ICR No. 1774.05, OMB Control No. 2060-0450) to the Office of Management and Budget (OMB) for review and approval in accordance with the Paperwork Reduction Act (44 U.S.C. 3501 et seq.). Before doing so, EPA is soliciting public comments on specific aspects of the proposed information collection as described below. This is a “proposed extension of the ICR, which is currently approved through October 31, 2013”. An Agency may not conduct or sponsor and a person is not required to respond to a collection of information unless it displays a currently valid OMB control number.

DATES: Comments must be submitted on or before August 19, 2013.

ADDRESSES: Submit your comments, referencing Docket ID No. EPA-HQ-OAR-2013-0402, online using www.regulations.gov (our preferred method), by email to a-and-r-docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Rebecca von dem Hagen, Environmental Protection Agency, Stratospheric Protection Division, Office of Atmospheric Programs, MC 6205J, Environmental Protection Agency, 1200 Pennsylvania Ave. NW., Washington, DC 20460; telephone number: (202) 343-9445; fax number: (202) 343-2362; email address: vondemhagen.rebecca@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA's Significant New Alternatives Policy (SNAP) program implements Section 612 of the 1990 Clean Air Act (CAA) Amendments which authorized the Agency to establish regulatory requirements to ensure that ozone-depleting substances (ODS) are replaced by alternatives that reduce overall risks to human health and the environment, and to promote an expedited transition to safe substitutes. To promote this transition, CAA specified that EPA establish an information clearinghouse of available alternatives, and coordinate with other Federal agencies and the public on research, procurement practices, and information and technology transfers.

Since the program's inception in 1994, SNAP has reviewed over 400 new chemicals and alternative manufacturing processes for a wide range of consumer, industrial, space exploration, and national security applications. Roughly 90% of alternatives submitted to EPA for review have been listed as acceptable for a specific use, typically with some condition or limit to minimize risks to human health and the environment.

Regulations promulgated under SNAP require that Motor Vehicle Air Conditioners (MVACs) retrofitted to use a SNAP substitute refrigerant include basic information on a label to be affixed to the air conditioner. The label includes the name of the substitute refrigerant, when and by whom the retrofit was performed, environmental and safety information about the substitute refrigerant, and other information. This information is needed so that subsequent technicians working on the MVAC system will be able to service the equipment properly, decreasing the likelihood of significant refrigerant cross-contamination and potential failure of air conditioning systems and recovery/recycling equipment.

Form Numbers: EPA ICR No. 1774.05, OMB Control No. 2060-0450.

Respondents/affected entities: Entities potentially affected by this action are new and used car dealers, gas service stations, top and body repair shops, general automotive repair shops, automotive repair shops not elsewhere classified, including air conditioning and radiator specialty shops.

Respondent's obligation to respond: Mandatory under 40 CFR 82.180.

Estimated number of respondents: 294 (total).

Frequency of response: Once per retrofit of a motor vehicle air conditioner.

Total estimated burden: 8 hours (per year). Burden is defined at 5 CFR 1320.3(b).

Total estimated cost: $580 (per year), includes $10 (per year) annualized capital or operation & maintenance costs.

Changes in Estimates: There is decrease of 1,492 hours in the total estimated respondent burden compared with the ICR currently approved by OMB (per year). This decrease is based on the decline of CFC-12 MVACs in service today. EPA estimated that the total percent of CFC-12 MVACs retrofitted in 2003 was 1.5%, which equals an estimated 500,000 CFC-12 MVACs retrofitted to R-134a. The number of MVACs originally designed to use CFC-12 as well as the number of those retrofitted to R-134a has been decreasing every year and EPA estimates a continued reduction in the number of CFC-12 MVACs retrofits will occur during the next three years. EPA estimates that currently, in 2013, there are 330,000 MVACs originally designed to use CFC-12 operating in the U.S. EPA estimates that in 2014, 2015 and 2016 the number of cars originally designed to use CFC-12 will decrease to 170,000, 84,000 and 40,000, respectively. Of these, EPA estimates that 0.1% will be retrofitted annually to use alternative refrigerants between October 2013 and September 2016. Therefore, EPA estimates that in 2014, 2015 and 2016 the numbers of MVACs to be retrofitted are 170, 84 and 40, respectively; resulting in a total of 294 MVAC retrofits over the three years of this ICR. These reductions are due to the decrease of CFC-12 MVACs available on the road for retrofitting.

Dated: June 10, 2013.
Sarah Dunham,
Director, Office of Atmospheric Programs.

[FR Doc. 2013-14753 Filed 6-19-13; 8:45 am]

BILLING CODE 6560-50-P